NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of the scheduling of meetings for the transaction of National Science Board business, as follows:

DATE AND TIME: February 3, 2015 from 8 a.m. to 5 p.m. and February 4, 2015 from 8:30 a.m. to 3 p.m. (EST).

PLACE: These meetings will be held at the National Science Foundation, 4201 Wilson Blvd., Rooms 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be webcast. To view the meetings, go to http://www.tvworldwide.com/events/nsf/150203/ and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Nadine Lymn, nlymn@nsf.gov, (703) 292-2490.

STATUS: Portions open; portions closed.

OPEN SESSIONS:

February 3, 2015

8-8:05 a.m. (Chairman's introduction)

8:05-8:50 a.m. (joint CPP/CSB)

8:50-10:45 a.m. (CPP)

1:45-3 p.m. (CEH)

3-3:30 p.m. (CSB)

4:15-5 p.m. (AO)

February 4, 2015

9:15-10 a.m. (SEI)

1:15-3 p.m. (Plenary)

CLOSED SESSIONS:

February 3, 2015

11-11:30 a.m. (SCF)

11:30 a.m.-12:30 p.m. (CPP)

3:45-4:15 p.m. (CSB)

February 4, 2015

8:30-9:15 a.m. (AO)

10:15-10:45 a.m. (Plenary executive)

10:45-11:45 a.m. (Plenary)

MATTERS TO BE DISCUSSED:

Tuesday, February 3, 2015

Joint Meeting—Committee on Programs and Plans (CPP) and Committee on Strategy and Budget (CSB)

Open Session: 8:05-8:50 a.m.

• Committee Chairs' remarks

• Discussion of the NSF Annual Facility Plan

Committee on Programs and Plans (CPP)

Open Session: 8:50-10:45 a.m.

• Approval of open minutes of the November 2014 meeting

• Committee Chairman's remarks

• Information item: National Ecological Observatory Network (NEON)

• Information Item: Gemini Observatory

• Information Item: National Optical Astronomy Observatory (NOAO)

• Information Item: Radio Astronomy Facilities—National Radio Astronomy Observatory (NRAO) and Atacama Large Millimeter Array (ALMA)

• Information Item: Update on Blue Waters and strategic planning for high performance computing

CSB Subcommittee on Facilities (SCF)

Closed Session: 11-11:30 a.m.

• Committee Chairman's remarks

• Approval of the November meeting minutes

• Discussion of the Annual Portfolio Review (APR)

Committee on Programs and Plans (CPP)

Closed Session: 11:30 a.m.-12:30 p.m.

• Approval of closed CPP minutes for November 2014

• Committee Chairman's remarks

• Information Item: Regional Class Research Vessel (RCRV)

• Information Item: National High Magnetic Field Laboratory (NHMFL)

Committee on Education and Human Resources (CEH)

Open Session: 1:45-3 p.m.

• Committee Chairman's remarks

• Approval of open CEH minutes for November 2014 meeting

• Presentation and discussion: Appreciating the Power and Promise of Education Research

Committee on Strategy and Budget (CSB)

Open Session: 3-3:30 p.m.

• Approval of CSB open minutes for November 2014

• NSF FY 2015 budget update

• NSF FY 2016 budget update

Committee on Strategy and Budget (CSB)

Closed Session: 3:45-4:15 p.m.

• Committee Chairman's remarks

• Approval of CSB closed minutes for November 2014

• Performance Improvement Officer report on FY 2017 strategic issues

Audit and Oversight Committee (AO)

Open Session: 4:15-5 p.m.

• Committee Chairman's opening remarks

• Approval of November 2014 meeting minutes

• Report on agency Financial Report and Audit

• Inspector General's update

• Chief Financial Officer's update

• Committee Chairman's closing remarks

Wednesday, February 4, 2015

Audit and Oversight Committee

Closed Session: 8:30-9:15 a.m.

• Committee Chairman's opening remarks

• Approval of November 2014 closed meeting and December 2014 closed teleconference minutes

• NSF relocation update

• Discussion of scope of work for proposed external review of issues pertaining to cooperative agreements

• Chairman's closing remarks

Committee on Science & Engineering Indicators (SEI)

Open Session: 9:15-10 a.m.

• Chairman's introduction

• Approval of the November 2014 meeting minutes and the January 2015 teleconference minutes

• Update on Science and Engineering Indicators 2016 production

• Discussion of the companion report to Indicators 2014

• Update on opportunities for outreach and engagement for the Indicators suite of products and beyond

• Chairman's closing remarks

Plenary

Executive Closed Session: 10:15-10:45 a.m.

• Approval of executive closed session minutes, November 2014

• Approval of Vannevar Bush award recommendation

• Approval of Alan T. Waterman award recommendation

• Chairman's remarks

Plenary Board Meeting

Closed Session: 10:45- 11:45 a.m.

• Approval of closed session minutes, November 2014

• Discussion of risks to NSF

• Closed committee reports

• Chairman's remarks

Plenary Board Meeting

Open Session: 1:15-3 p.m.

• Approval of open session minutes, November 2014

• Chairman's report

• Director's report

• Open committee reports

• Chairman's remarks

Meeting Adjourns: 3 p.m.

Ann Bushmiller,
Senior Counsel to the National Science Board.

[FR Doc. 2015-01695 Filed 1-26-15; 4:15 pm]

BILLING CODE 7555-01-P